DEPARTMENT OF TRANSPORTATION

Bureau of Transportation Statistics

[Docket Number OST-2025-* * * *]

Agency Information Collection Activity; Notice of Request for Approval To Collect New Information: Crash Causal Factors Program Heavy-Duty Truck Study Interview Data Collection

AGENCY: Bureau of Transportation Statistics (BTS), Office of the Assistant Secretary for Research and Technology (OST-R), U.S. Department of Transportation.

ACTION: Notice and request for comments.

SUMMARY: In accordance with the requirements of section 3506(c)(2)(A) of Title 44 of the U.S. Code (Pub. L. 104-13, the Paperwork Reduction Act of 1995), this notice announces the intention of BTS to request the Office of Management and Budget (OMB) to approve a new data collection: Crash Causal Factors Program Heavy-Duty Truck Study Interview Data Collection. This information collection request (ICR) pertains to data collected in the interview portion of the Heavy-Duty Truck Study, which was mandated by Congress in Section 23006 of the Infrastructure and Investment Jobs Act.

DATES: Written comments should be submitted by November 3, 2025.

ADDRESSES: To ensure that your comments are not entered more than once into the docket, submit comments by only one of the following methods:

• Federal eRulemaking Portal: Go to http://www.regulations.gov and follow the instructions for sending your comments electronically.

• Docket Number: OST-2025-* * * *.

• Mail: Docket Services, U.S. Department of Transportation, 1200 New Jersey Avenue SE, West Building, Ground Floor, Room W12-140, Washington, DC 20590-0001.

• Hand Delivery: Deliver to mail address above between 9 a.m. and 5 p.m. EST, Monday through Friday, except Federal holidays.

Instructions: All submissions must include the Agency name and docket number. Note that all comments received will be posted without change to https://www.regulations.gov, including any personal information provided. Please see the Privacy Act heading below.

Docket: For access to the docket to read background documents or comments received, go to https://www.regulations.gov, and follow the online instructions for accessing the docket, or go to the street address listed above.

Privacy Act: In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

Public Participation: The Federal eRulemaking Portal is available 24 hours each day, 365 days each year. You can obtain electronic submission and retrieval help and guidelines under the “help” section of the Federal eRulemaking Portal website. If you want us to notify you that we received your comments, please include a self-addressed, stamped envelope or postcard, or print the acknowledgement page that appears after submitting comments online. Comments received after the comment closing date will be included in the docket and will be considered to the extent practicable.

FOR FURTHER INFORMATION CONTACT: Allison Fischman, Office of Safety Data and Analysis, Bureau of Transportation Statistics, U.S. Department of Transportation, RTS-35, 1200 New Jersey Avenue SE, Washington, DC 20590-0001, allison.fischman@dot.gov.

SUPPLEMENTARY INFORMATION:

Title: Crash Causal Factors Program Heavy-Duty Truck Study Interview Data Collection.

OMB Control Number: Not yet known.

Type of Request: New collection.

Affected Public: Drivers of heavy-duty trucks (class 7 and 8 trucks), motor carrier industry representatives, and members of the public involved in heavy-duty truck fatal crashes.

Estimated Annual Respondents: 5,000.

Estimated Annual Burden: 5,000 hours.

Abstract: In accordance with Section 23006 of the Infrastructure Investment and Jobs Act, Public Law 117-58, the Federal Motor Carrier Safety Administration (FMCSA) established the Crash Causal Factors Program (CCFP) as a comprehensive study to determine the causes and contributing factors to crashes involving commercial motor vehicles. The CCFP's first phase, the Heavy-Duty Truck Study, will focus on collecting information from a nationally representative sample of at least 2,000 fatal crashes involving Class 7 and 8 trucks (i.e., trucks with a gross vehicle weight rating of 26,0001 pounds or more). Data collection will occur over the course of two years, and may extend beyond the two year study period subject to FMCSA State-specific agreements and renewals of relevant information collection requests. To supplement data collected by FMCSA under the study, the Bureau of Transportation Statistics (BTS) will conduct interviews on a voluntary basis with carriers, drivers, and witnesses following a crash. Information gathered during the interviews will provide additional information and context for a more comprehensive understanding of crashes and their causal factors.

For each fatal crash, BTS will attempt to interview the heavy-duty truck driver, a representative from the involved motor carrier, the driver of any other involved vehicle, all vehicle occupants, and any other persons involved in the crash. The number of interviews per crash will vary depending on the crash circumstances. The estimated reporting burden considers an average of five interviews per crash, with one hour as the average length per interview. BTS will analyze information collected during interviews to identify key driver, vehicle, motor carrier, and environmental factors that may contribute to fatal crashes involving heavy-duty trucks. Analysis results and findings may be used to inform preventive measures, reduce identified risks, and address causal factors of heavy-duty truck crashes.

The Confidential Information Protection and Statistical Efficiency Act of 2018 (CIPSEA) (44 U.S.C. 3561-3583), provides strong confidentiality protection for information acquired for statistical purposes under a pledge of confidentiality. CIPSEA guidance from the Office of Management and Budget advises that a non-statistical agency or unit (FMCSA) that wishes to acquire information with CIPSEA protection may consider entering into an agreement with a Federal statistical agency or unit (BTS). BTS and FMCSA have determined that it is in public interest to collect data from interviews under a pledge of confidentiality for statistical purposes.

BTS, within the U.S. Department of Transportation, is an objective supplier of statistically sound baseline, contextual, and trend information used to shape transportation policy investment decisions across the United States. BTS is responsible for providing timely, accurate, and reliable information on U.S. passenger and freight transportation systems and their impact on the economy, society, and the environment. As a Federal statistical agency, BTS has the authority to collect data confidentially for statistical purposes under CIPSEA, which strictly prohibits BTS from disclosing information in identifiable form to anyone other than BTS employees or BTS agents with a need to know.

Data Confidentiality Provisions: The confidentiality of information from interviews with individuals and companies involved in the crash is protected under the BTS confidentiality statute (49 U.S.C. 6307(b)) and CIPSEA. In accordance with these confidentiality statutes, only statistical and non-identifying data will be made publicly available by BTS through reports. Further, BTS will not release to any public or private entity any information that might reveal the identity of an individual participating in an interview with BTS.

Public Comments Invited: You are asked to comment on any aspect of this information collection, including: (1) whether the proposed collection is necessary for the performance of BTS's functions; (2) the accuracy of the estimated burden; (3) ways for BTS to enhance the quality, usefulness, and clarity of the collected information; and (4) ways that the burden could be minimized without reducing the quality of the collected information. Comments received after the comment closing date will be included in the docket and will be considered to the extent practicable.

Allison Fischman,
Director, Office of Safety Data & Analysis.

[FR Doc. 2025-16734 Filed 8-29-25; 8:45 am]

BILLING CODE P